DEPARTMENT OF JUSTICE

Antitrust Division

Notice Pursuant to the National Cooperative Research and Production Act of 1993—Surface Logix, Inc.

Notice is hereby given that, on October 30, 2002, pursuant to section 6(a) of the National Cooperative Research and Production Act of 1993, 15 U.S.C. 4301 et seq. (“the Act”), Surface Logix, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Surface Logix, Inc., Brighton, MA; and Ancora Pharmaceuticals, Inc., Cambridge, MA. The nature and objectives of the venture are to execute a 3-year project to facilitate carbohydrate-based drug discovery and research by developing and integrating a variety of new technologies tailored to carbohydrate production and detection of their interactions. These technologies include automated synthesis methods to rapidly produce complex carbohydrates (Ancora), a unique surface chemistry platform with which to present these molecules, and a surface-based detection system (Surface Logix). These tools will be used to design quantitative, reproductible assays containing many of the carbohydrate variants found in specific biological interactions. These assays will be configured to measure key interactions between carbohydrates and other biomolecules, thus enabling carbohydrate-based drug discovery.

Constance K. Robinson,
Director of Operations, Antitrust Division.

[FR Doc. 02-30795 Filed 12-4-02; 8:45 am]

BILLING CODE 4410-11-M